DEPARTMENT OF HEALTH AND HUMAN SERVICES

Centers for Disease Control and Prevention

[60Day-10-0612]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Well-Integrated Screening and Evaluation for Women Across the Nation (WISEWOMAN) Reporting System (OMB #0920-0612, exp. 1/31/2010)—Revision—National Center for Chronic Disease Prevention and Health Promotion (NCCDPHP), Centers for Disease Control and Prevention (CDC).

Background and Brief Description

Cardiovascular disease (CVD), which includes heart disease, myocardial infarction, and stroke, is the leading cause of death for women in the United States, and is largely preventable. The WISEWOMAN program (Well-Integrated Screening and Evaluation for Women Across the Nation), administered by the Centers for Disease Control and Prevention (CDC), was established to examine ways to improve the delivery of services for women who have limited access to health care and elevated risk factors for CVD. The program focuses on reducing CVD risk factors and provides screening services for select risk factors such as elevated blood cholesterol, hypertension and abnormal blood glucose levels. The program also provides lifestyle interventions and medical referrals. On an annual basis, 15 grantees funded through the WISEWOMAN program have provided services to approximately 30,000 women who are already participating in the National Breast and Cervical Cancer Early Detection Program (NBCCEDP), also administered by CDC. CDC plans to increase the reach of the WISEWOMAN program by increasing the number of grantees from 15 to 21.

CDC currently collects information from WISEWOMAN grantees to support continuous program monitoring and improvement activities. CDC seeks to extend OMB approval for three additional years. The total estimated annualized burden will increase due to the increase in the number of funded grantees. However, the burden to each respondent will decrease due to a reduction in the frequency of data collection for items that were previously collected on a quarterly basis. During the next OMB approval period, all information will be collected twice per year.

Information reported to CDC includes baseline and follow-up data (12 months post enrollment) for all women served through the WISEWOMAN program. These data, called the minimum data elements (MDE), include data elements that describe risk factors for the women served in each program and data elements that describe the number and type of intervention sessions attended. Funded grantees compile the data from their existing databases and report the MDE to CDC in April and October of each year. The MDE data provide an assessment of how effective the WISEWOMAN program is at reducing the burden of cardiovascular disease risk factors among women who utilize program services. The information collected from grantees is also used to assess the cost-effectiveness and impact of the program. The overall program evaluation is designed to demonstrate how WISEWOMAN can obtain more complete health data on vulnerable populations, promote public education about disease incidence and risk-factors, improve the availability of screening and diagnostic services for under-served women, ensure the quality of services provided to under-served women, and develop strategies for improved interventions. The information reported to CDC also includes programmatic information related to grantee management, public education and outreach, professional education, service delivery, cost, and progress toward meeting stated programmatic objectives.

All MDE information will be submitted to CDC electronically. Progress reports will be submitted in hardcopy format. Because certain demographic information has already been collected as part of NBCCEDP, the additional burden on grantees will be modest. There is no cost to the respondents other than their time.

Estimated Annualized Burden Hours
Type of respondent | Form name | Number of respondents | Number of responses per respondent | Average burden per response (in hours) | Total burden (in hours)
WISEWOMAN Grantees | WISEWOMAN MDEs | 21 | 2 | 40 | 1,680
| Progress Report | 21 | 2 | 16 | 672
Total |  |  |  |  | 2,352

Dated: October 5, 2009.
Maryam I. Daneshvar,
Acting Reports Clearance Officer, Centers for Disease Control and Prevention.

[FR Doc. E9-24522 Filed 10-9-09; 8:45 am]

BILLING CODE 4163-18-P